NUCLEAR REGULATORY COMMISSION

Public Meeting Notice of Nuclear Energy Institute/U.S. Nuclear Regulatory Commission Working Groups

AGENCY: Nuclear Regulatory Commission.

ACTION: Solicitation of interest in working group participation.

DATES: August 23, 2007.

Time: 8 a.m.

Location: U.S. Nuclear Regulatory Commission, Executive Boulevard Building, 6003 Executive Boulevard, Rooms, EBB-1-B13 and EBB-1-B15, Rockville, MD 20852.

FOR FURTHER INFORMATION CONTACT: James Smith, Project Manager, Technical Support Branch, Special Projects and Technical Support Directorate, Division of Fuel Cycle Safety and Safeguards, Office of Nuclear Material Safety and Safeguards, U.S. Nuclear Regulatory Commission, MS EBB2-C40M, Washington, DC 20555-0001. Telephone: (301) 492-3234; fax number: (301) 492-6521; e-mail: jas4@nrc.gov.

SUPPLEMENTARY INFORMATION:

I. Introduction

The Nuclear Regulatory Commission (NRC) held a public workshop with the Nuclear Energy Institute and other stakeholders on June 14, 2007, to discuss certain implementation issues related to the implementation of subpart H of 10 CFR part 70: (1) Part 70, Appendix A Reporting, (2) refinement of the definition of Uranium Solubility under part 70, (3) the use of Digital Instrumentation and Control in safety and process settings, (4) the § 70.72 Facility Change Process, and (5) the possible Enforcement Policy Revisions.

Of the path forward for each of these five issues, four included a short term resolution to address the problem via small working groups comprised of industry and NRC representatives producing a product (white paper) which would ultimately be reviewed/approved by management representatives from both NRC and NEI and/or Industry representative management with an opportunity for members of the public to participate if desired. The exception to this small working group approach was the resolution of the issues associated with the use of Digital Instrumentation and Control in safety and process settings. Since this issue was far reaching, that could impact other nuclear arenas, some already addressing this area already pursuing research in this area, it was proposed that industry participate in the current steering committees involved in addressing these issues and NRC will facilitate interested industry members admission/seating on these committees so that their interests can be heard.

In addition to the small working group approach, for Enforcement Policy Revisions, a multiple day public workshop in Region II with participation by the NRC's Offices of Enforcement and General Counsel should be held to establish the limits to what can be changed in the Enforcement Policy by the small working group.

II. Summary

The purpose of this notice is to provide notice of the date and location of the first kickoff meeting of these small working groups as these white papers are developed. The number of persons participating in these groups will be limited to one or two; therefore, the first one or two person expressing interest in a particular group will have priority for participation in the working group; however, all meetings of these groups will be noticed and open to the public. Please contact the staff contact listed above to express your interest in participating in one or more of these working groups.

Dated at Rockville, Maryland, this 14th day of August 2007.
For the Nuclear Regulatory Commission.
Deborah A. Jackson,
Chief, Technical Support Branch, Special Projects and Technical Support Directorate, Division of Fuel Cycle Safety and Safeguards, Office of Nuclear Material Safety and Safeguards.

[FR Doc. 07-4132 Filed 8-20-07; 11:47 am]

BILLING CODE 7590-01-P